DEPARTMENT OF ENERGY

Federal Energy Regulatory Commission

Combined Notice of Filings

Take notice that the Commission has received the following Natural Gas Pipeline Rate and Refund Report filings:

Filings Instituting Proceedings

Docket Numbers: RP18-1146-000.

Applicants: Columbia Gulf Transmission, LLC.

Description: Annual Cash-Out Report of Colombia Gulf Transmission, LLC under RP18-1146.

Filed Date: 8/31/18.

Accession Number: 20180831-5248.

Comments Due: 5 p.m. ET 9/14/18.

Docket Numbers: RP18-1147-000.

Applicants: Colorado Interstate Gas Company, L.L.C.

Description: Operational Purchase and Sales Report of Colorado Interstate Gas Company L.L.C under RP18-1147.

Filed Date: 8/31/18.

Accession Number: 20180831-5248.

Comments Due: 5 p.m. ET 9/14/18.

Docket Numbers: RP18-1148-000.

Applicants: Rockies Express Pipeline LLC.

Description: § 4(d) Rate Filing: Neg Rate 2018-09-04 BP, CP, and Encana to be effective 9/1/2018.

Filed Date: 9/5/18.

Accession Number: 20180905-5080.

Comments Due: 5 p.m. ET 9/17/18.

Docket Numbers: RP18-1151-000.

Applicants: Iroquois Gas Transmission System, L.P.

Description: § 4(d) Rate Filing: 090518 Negotiated Rates—Mieco Inc. R-7080-02 to be effective 11/1/2018.

Filed Date: 9/5/18.

Accession Number: 20180905-5138.

Comments Due: 5 p.m. ET 9/17/18.

Docket Numbers: RP18-1152-000.

Applicants: Iroquois Gas Transmission System, L.P.

Description: § 4(d) Rate Filing: 090518 Negotiated Rates—Mieco Inc. R-7080-03 to be effective 11/1/2018.

Filed Date: 9/5/18.

Accession Number: 20180905-5140.

Comments Due: 5 p.m. ET 9/17/18.

Docket Numbers: RP18-1153-000.

Applicants: Iroquois Gas Transmission System, L.P.

Description: § 4(d) Rate Filing: 090518 Negotiated Rates—Mieco Inc. R-7080-04 to be effective 11/1/2018.

Filed Date: 9/5/18.

Accession Number: 20180905-5141.

Comments Due: 5 p.m. ET 9/17/18.

Docket Numbers: RP18-1154-000.

Applicants: Iroquois Gas Transmission System, L.P.

Description: § 4(d) Rate Filing: 090518 Negotiated Rates—Mieco Inc. R-7080-05 to be effective 11/1/2018.

Filed Date: 9/5/18.

Accession Number: 20180905-5143.

Comments Due: 5 p.m. ET 9/17/18.

Docket Numbers: RP18-1155-000.

Applicants: Iroquois Gas Transmission System, L.P.

Description: § 4(d) Rate Filing: 090518 Negotiated Rates—Mieco Inc. R-7080-06 to be effective 11/1/2018.

Filed Date: 9/5/18.

Accession Number: 20180905-5144.

Comments Due: 5 p.m. ET 9/17/18.

Docket Numbers: RP18-1156-000.

Applicants: Black Marlin Pipeline Company.

Description: Black Marlin Pipeline Company submits tariff filing per 260.402: Black Marlin Pipeline Company: Petition for Waiver from Filing Form No. 501-G to be effective N/A under RP18-1156.

Filed Date: 09/06/2018.

Accession Number: 20180906-5030.

Comment Date: 5:00 p.m. ET 9/18/18.

Docket Numbers: RP18-1157-000.

Applicants: Eastern Shore Natural Gas Company.

Description: Eastern Shore Natural Gas Company submits tariff filing per 260.402: Waiver to file FERC Form No. 501-G to be effective N/A under RP18-1157.

Filed Date: 09/06/2018.

Accession Number: 20180906-5081.

Comment Date: 5:00 p.m. ET 9/18/18.

Docket Numbers: RP18-1158-000.

Applicants: CNE Gas Supply, LLC,Exelon Generation Company, LLC.

Description: Petition for Temporary Waivers of Capacity Regulations and Policies, et al. of CNE Gas Supply, LLC, et al. under RP18-1158.

Filed Date: 09/06/2018.

Accession Number: 20180906-5132.

Comment Date: 5:00 p.m. ET 9/18/18.

Docket Numbers: RP18-1159-000.

Applicants: Southern Natural Gas Company, L.L.C.

Description: eTariff filing per 1430: Request for Waiver of Form No. 501-G to be effective N/A.

Filed Date: 9/7/18.

Accession Number: 20180907-5030.

Comments Due: 5 p.m. ET 9/19/18.

Docket Numbers: RP18-1160-000.

Applicants: Paiute Pipeline Company.

Description: Compliance filing Compliance Filing—CP17-471 to be effective 11/1/2018.

Filed Date: 9/10/18.

Accession Number: 20180910-5000.

Comments Due: 5 p.m. ET 9/24/18.

Docket Numbers: RP18-1161-000.

Applicants: Iroquois Gas Transmission System, L.P.

Description: § 4(d) Rate Filing: 091018 Negotiated Rates—Equinor Natural Gas LLC R-7120-07 to be effective 11/1/2018.

Filed Date: 9/10/18.

Accession Number: 20180910-5031.

Comments Due: 5 p.m. ET 9/24/18.

Docket Numbers: RP18-1162-000.

Applicants: Iroquois Gas Transmission System, L.P.

Description: § 4(d) Rate Filing: 091018 Negotiated Rates—Equinor Natural Gas LLC R-7120-08 to be effective 11/1/2018.

Filed Date: 9/10/18.

Accession Number: 20180910-5041.

Comments Due: 5 p.m. ET 9/24/18.

Docket Numbers: RP18-1163-000.

Applicants: Iroquois Gas Transmission System, L.P.

Description: § 4(d) Rate Filing: 091018 Negotiated Rates—Equinor Natural Gas LLC R-7120-09 to be effective 11/1/2018.

Filed Date: 9/10/18.

Accession Number: 20180910-5046.

Comments Due: 5 p.m. ET 9/24/18.

Docket Numbers: RP18-1164-000.

Applicants: Iroquois Gas Transmission System, L.P.

Description: § 4(d) Rate Filing: 091018 Negotiated Rates—Equinor Natural Gas LLC R-7120-10 to be effective11/1/2018.

Filed Date: 9/10/18.

Accession Number: 20180910-5047.

Comments Due: 5 p.m. ET 9/24/18.

Docket Numbers: RP18-1165-000.

Applicants: Rockies Express Pipeline LLC.

Description: Rockies Express Pipeline LLC submits tariff filing per 154.204: Errata to Administrative Cleanup to Tariff to be effective 10/1/2018 under RP18-1165.

Filed Date: 09/10/2018.

Accession Number: 20180910-5134.

Comment Date: 5:00 p.m. ET 9/24/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 11, 2018.
Nathaniel J. Davis, Sr.
Deputy Secretary.

[FR Doc. 2018-20083 Filed 9-14-18; 8:45 am]

BILLING CODE 6717-01-P